AGENCY FOR INTERNATIONAL DEVELOPMENT

Notice of Public Information Collections Being Reviewed by the U.S. Agency for International Development; Comments Requested

SUMMARY: U.S. Agency for International Development (USAID) is making efforts to reduce the paperwork burden. USAID invites the general public and other Federal agencies to take this opportunity to comment on the following proposed and/or continuing information collections as required by the Paperwork Reduction Act for 1995. Comments are requested concerning: (a) Whether the proposed or continuing collections of information are necessary for the proper performance of the functions of the agency, including whether the information shall have practical utility; (b) the accuracy of the burden estimates; (c) ways to enhance the quality, utility, and clarity of the information collected; and (d) ways to minimize the burden of the collection of information on the respondents, including the use of automated collection techniques or other forms of information technology.

DATES: Submit comments on or before December 30, 2008.

FOR FURTHER INFORMATION CONTACT: Beverly Johnson, Bureau for Management, Office of Administrative Services, Information and Records Division, U.S. Agency for International Development, Room 2.07-106, RRB, Washington, DC 20523, (202) 712-1365 or via e-mail bjohnson@usaid.gov.

ADDRESSES: Send comments via e-mail at jltaylor@usaid.gov or mail comments to: Jacqueline L. Taylor, Procurement Analyst, Office of Acquisition and Assistance, United States Agency for International Development, Ronald Reagan Building, 1300 Pennsylvania Avenue, NW., Washington, DC 20523 (202) 712-0492.

SUPPLEMENTARY INFORMATION: OMB No: OMB 0412-New.

Form No.: N/A.

Title: Offeror Information for Personal Services Contracts.

Type of Review: New.

Purpose: The purpose of this information collection is to obtain information from the offeror for personal service contract positions. This information will include administrative information, work experience, education and qualifications in addition to offerors certification.

Annual Reporting Burden

Respondents: 5,000.

Total Annual Responses: 10,000.

Total Annual Hours Requested: 5,000 hours.

Dated: October 22, 2008.
Joanne Paskar,
Chief, Information and Records Division, Office of Administrative Services, Bureau for Management.

[FR Doc. E8-25838 Filed 10-30-08; 8:45 am]

BILLING CODE 6116-01-M